FEDERAL ELECTION COMMISSION

Sunshine Act Meeting

Date and Time: Thursday, November 10, 2005, at 10 a.m.

Place: 999 E Street, NW., Washington, DC (Ninth Floor).

Status: This meeting will be open to the public.

Items to be Discussed:

Correction and Approval of Minutes.

Final Rules and Explanation and Justification for the $5,000 Levin Fund.

Exemption for State, District, and Local Party Committees.

Routine Administrative Matters.

FOR INFORMATION CONTACT: Mr. Robert Biersack, Press Officer, Telephone: (202) 694-1220.

Mary W. Dove,
Secretary of the Commission.

[FR Doc. 05-22275 Filed 11-3-05; 2:51 am]

BILLING CODE 6715-01-M